FEDERAL COMMUNICATIONS COMMISSION

[OMB 3060-1089]

Information Collection Being Reviewed by the Federal Communications Commission

AGENCY: Federal Communications Commission.

ACTION: Notice and request for comments.

SUMMARY: As part of its continuing effort to reduce paperwork burdens, and as required by the Paperwork Reduction Act (PRA), the Federal Communications Commission (FCC or Commission) invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

The FCC may not conduct or sponsor a collection of information unless it displays a currently valid Office of Management and Budget (OMB) control number. No person shall be subject to any penalty for failing to comply with a collection of information subject to the PRA that does not display a valid OMB control number.

DATES: Written comments should be submitted on or before April 17, 2017. If you anticipate that you will be submitting comments, but find it difficult to do so within the period of time allowed by this notice, you should advise the contacts below as soon as possible.

ADDRESSES: Direct all PRA comments to Cathy Williams, FCC, via email PRA@fcc.gov and to Cathy.Williams@fcc.gov.

FOR FURTHER INFORMATION CONTACT: For additional information about the information collection, contact Cathy Williams at (202) 418-2918.

SUPPLEMENTARY INFORMATION: As part of its continuing effort to reduce paperwork burdens, and as required by the PRA of 1995 (44 U.S.C. 3501-3520), the FCC invites the general public and other Federal agencies to take this opportunity to comment on the following information collections. Comments are requested concerning: Whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

OMB Control No.: 3060-1089.

Title: Telecommunications Relay Services and Speech-to-Speech Services for Individuals with Hearing and Speech Disabilities; E911 Requirements for IP-Enabled Service Providers; Internet-Based Telecommunications Relay Service Numbering, CG Docket No. 03-123, WC Docket No. 05-196, and WC Docket No. 10-191; FCC 08-151, FCC 08-275, FCC 11-123.

Form No.: N/A.

Type of Review: Revision of a currently approved collection.

Respondents: Business or other for-profit entities; and individuals and households.

Number of Respondents and Responses: 6 respondents; 3,450,036 responses.

Estimated Time per Response: 0.008 hours (about 30 seconds) to 250 hours.

Frequency of Response: On occasion and quarterly reporting requirements; Recordkeeping requirement; and Third party disclosure requirements.

Obligation to Respond: Required to obtain or retain benefits. The statutory authority for the collection is contained in sections 1, 2, 4(i), 4(j), 225, 251, 255, and 303(r) of the Communications Act of 1934, as amended, 47 U.S.C. 151, 152, 154(i), 154(j), 225, 251, 255, 303(r).

Total Annual Burden: 52,334 hours.

Annual Cost Burden: $2,206,200.

Nature and Extent of Confidentiality: An assurance of confidentiality is not offered because this information collection does not require the collection of personally identifiable information from individuals.

Privacy Act Impact Assessment: No impact(s).

Needs and Uses: The telecommunications relay service (TRS) program enables access to the nation's telephone network by persons with hearing and speech disabilities. Between 2008 and 2011, the Commission adopted rules in three separate orders related to the telephone numbering system and enhanced 911 (E911) services for users of two forms of Internet-based TRS: Video Relay Service (VRS); and Internet Protocol Relay service (IP Relay). See document FCC 08-151, Report and Order and Further Notice of Proposed Rulemaking (First Numbering Order), published at 73 FR 41286, July 18, 2008; document FCC 08-275, Second Report and Order and Order on Reconsideration (Second Numbering Order), published at 73 FR 79683, December 30, 2008; and document FCC 11-123, Report and Order (iTRS Toll Free Order), published at 76 FR 59551, September 27, 2011.

The rules adopted in these three orders have the following information collection requirements:

(A) Routing Information. VRS and IP Relay providers must obtain and retain current routing information from their registered users.

(B) Provision of Routing Information. VRS and IP Relay providers must provision and maintain their registered users' routing information to the TRS Numbering Directory.

(C) Registered Location. VRS and IP Relay providers must obtain from each newly registered user the physical location at which the service will be utilized (the user's Registered Location) and offer their registered users one or more methods of updating their physical location.

(D) Provision of Registered Location. Each VRS and IP Relay provider must place its registered users' Registered Location and certain callback information into, or make that information available through, Automatic Location Information (ALI) databases across the country.

(E) User Notification. Every VRS or IP Relay provider must include an advisory on its Web site and in any promotional materials addressing numbering and E911 services for VRS or IP Relay.

(F) Affirmative Acknowledgements. VRS and IP Relay providers must obtain and keep a record of affirmative acknowledgement from each of their registered users of having received and understood the user notification.

(G) Ascertaining Registration Status of VRS or IP Relay User. Every VRS and IP Relay provider must verify whether a dial-around user is registered with another provider. Because there is only one IP Relay provider, dial-around service is not used with IP Relay at this time.

(H) Verifying Registration and Eligibility Information. Every VRS and IP Relay provider must institute procedures to verify the accuracy of registration information, and include a self-certification component requiring consumers to verify that they have a disability necessitating their use of TRS.

(I) Commission Approval for the Pass Through of Numbering Costs. Each VRS or IP Relay provider wishing to pass through certain numbering-related costs to its users must obtain Commission approval to do so.

(J) Information Sharing After a Change in Default Providers. Each VRS provider that provides equipment to a consumer must make available to other VRS providers enough information about that equipment to enable another VRS provider selected as the consumer's default provider to perform all of the functions of a default provider.

Federal Communications Commission.
Marlene H. Dortch,
Secretary, Office of the Secretary.

[FR Doc. 2017-02964 Filed 2-13-17; 8:45 am]

BILLING CODE 6712-01-P